DEPARTMENT OF THE TREASURY

Submission for OMB Review; Comment Request

July 18, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 25, 2008 to be assured of consideration.

Financial Crimes Enforcement Network (FinCEN)

OMB Number: 1506-0041.

Type of Review: Extension.

Title: Imposition of Special Measure against VEF Banka.

Description: FinCEN is issuing this notice of the renewal of the rulemaking that imposes a special measure against joint stock company VEF Banka (VEF banks) as a financial institution of primary money laundering concern, pursuant to the authority contained in 31 U.S.C. 5318 A.

Respondents: Individuals or households.

Estimated Total Reporting Burden: 5,000 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Robert Dahl,
Treasury PRA Clearance Officer.

[FR Doc. E8-16954 Filed 7-23-08; 8:45 am]

BILLING CODE 4810-02-P